FEDERAL COMMUNICATIONS COMMISSION

47 CFR Part 69

[WC Docket No. 05-25; RM-10593; FCC 12-153; DA 13-379]

Special Access for Price Cap Local Exchange Carriers; AT&T Corporation Petition for Rulemaking To Reform Regulation of Incumbent Local Exchange Carrier Rates for Interstate Special Access Services

AGENCY: Federal Communications Commission.

ACTION: Final rule; correction of effective date.

SUMMARY: This document corrects the effective date of the Report and Order adopted in FCC 12-153 and published in the Federal Register on January 11, 2013. This correction is necessary to comply with the Congressional Review Act (CRA) requirement that a major rule is effective 60 days after publication in the Federal Register or 60 days after receipt by Congress of a report in compliance with the CRA, whichever is later. The Federal Communications Commission (Commission) issued an Erratum on March 11, 2013, delaying the effective date of the Report and Order (except the information collection rules and the delegation rule) to March 25, 2013. Further information is provided in the supplementary information that follows.

DATES: The effective date of the Report and Order published on January 11, 2013, at 78 FR 2572, is corrected to March 25, 2013. See 5 U.S.C. 801(a)(3)(A). The information collection and recordkeeping requirements contained in section III and appendix A of that document are not effective until they are approved by the Office of Management and Budget (OMB).

FOR FURTHER INFORMATION CONTACT: Belinda Nixon, Wireline Competition Bureau, Pricing Policy Division, (202) 418-1520 or (202) 418-0484 (TTY), or via email at Belinda.Nixon@fcc.gov.

SUPPLEMENTARY INFORMATION: On December 18, 2012, the Commission released a Report and Order initiating a comprehensive special access data collection. The Report and Order specified the nature of the data to be collected by the Commission and the scope of respondents, as well as delegated authority to the Commission's Wireline Competition Bureau to review and modify the collection to implement the requirements of the Report and Order. This Report and Order was published in the Federal Register on January 11, 2013, at 78 FR 2572. That document set March 12, 2013, as the effective date for the Report and Order, with two exceptions. The delegation of authority to the Wireline Competition Bureau to implement a data collection in accordance with the terms of the Report and Order became effective upon adoption as specified in paragraph 137 of the document published at 78 FR 2572, January 11, 2013. Also, the information and recordkeeping requirements adopted in the Report and Order will not become effective until publication of an announcement in the Federal Register that these requirements have been approved by the OMB.

This document corrects the effective date of the Report and Order to comply with the requirements of the CRA, 5 U.S.C. 801-808. The Report and Order was classified as a major rule subject to congressional review. 5 U.S.C. 804(2). Pursuant to 5 U.S.C. 801(a)(3)(A), a major rule cannot be made effective until 60 days after the latter of publication in the Federal Register or receipt by Congress of a report in compliance with the CRA, 5 U.S.C. 801(a)(1). Congress did not receive the CRA report until January 24, 2013, thirteen days after publication of the final rule document in the Federal Register. Consequently, the Report and Order (except for the information collection requirement and the delegation of authority) is effective 60 days after that date.

As a result, the Commission issued an Erratum to the Report and Order delaying the effective date (except the information collection rules and the delegation rule) to March 25, 2013. This publication, which was inadvertently delayed, provides notice of the effective date.

Federal Communications Commission.
Deena Shetler,
Associate Bureau Chief, Wireline Competition Bureau.

[FR Doc. 2013-09708 Filed 4-25-13; 8:45 am]

BILLING CODE 6712-01-P